DEPARTMENT OF COMMERCE

National Oceanic and Atmospheric Administration

[RTID 0648-XB456]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a weeklong work session that is open to the public.

DATES: The online meeting will be held Monday October 18, 2021, from 1 p.m. Pacific Daylight Time (PDT) until business is completed for the day. The GMT will reconvene on Tuesday, October 19 through Friday, October 22, 2021 at 8:30 a.m. PDT until business for each day has been completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Todd Phillips, Staff Officer, Pacific Council; telephone: (503) 820-2426.

SUPPLEMENTARY INFORMATION: The primary purpose of the GMT meeting is to develop recommendations on the development of the 2023-24 harvest specifications and routine management measures for consideration by the Pacific Council at its November 2021 meeting. The GMT will also consider new management measures proposed by the Council at their September meeting, such as potential changes to shortbelly rockfish management and reconfiguration of Groundfish Conservation Area boundaries. The GMT may also address other groundfish, Pacific halibut, and administrative agenda items scheduled for the November Pacific Council meeting. A detailed agenda will be available on the Pacific Council's website prior to the meeting. No management actions will be decided by the GMT.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 27, 2021.
Tracey L. Thompson,
Acting Deputy Director, Office of Sustainable Fisheries, National Marine Fisheries Service.

[FR Doc. 2021-21331 Filed 9-29-21; 8:45 am]

BILLING CODE 3510-22-P